DEPARTMENT OF THE INTERIOR

Bureau of Land Management

[LLNVB01000.L58740000.EU0000.XFL064F0000; N-79242; 9-08807; TAS: 14X5232]

Notice of Realty Action; Modified Competitive Sealed-Bid Sale of Public Land in Lander County, NV

AGENCY: Bureau of Land Management, Interior.

ACTION: Notice of Realty Action.

SUMMARY: The Bureau of Land Management (BLM) proposes to offer by modified competitive sealed-bid sale, one parcel of public land in Antelope Valley totaling 409.34 acres at not less than the fair market value (FMV) of $60,000. A description of the method of modified competitive bidding to be used and a statement indicating the purpose or objective of the bidding procedure selected is specified in this notice.

DATES: Written comments regarding the proposed sale will be accepted until September 10, 2009. The bidders have until September 25, 2009 to submit sealed bids to the Bureau of Land Management (BLM) Battle Mountain District Office to the address listed below. Sealed bids will be opened no sooner than September 30, 2009 at 3 p.m. Pacific Time.

ADDRESSES: Mail written comments to the BLM Field Manager, Mount Lewis Field Office, 50 Bastian Road, Battle Mountain, NV 89820.

FOR FURTHER INFORMATION CONTACT: Nancy Lockridge, e-mail: Nancy Lockridge@nv.blm.gov or phone: (775) 635-4000.

SUPPLEMENTARY INFORMATION: The sale will be subject to the applicable provisions of Sections 203 and 209 of the Federal Land Policy and Management Act of 1976 (FLPMA), 43 U.S.C. 1713 and 1719, respectively, and BLM land sale and mineral conveyance regulations at 43 CFR 2710 and 2720.

The sale parcel is legally described as:

Mount Diablo Meridian

T. 25 N., R. 42 E.,

Sec. 1, lots 7 and 8, and SW¼;

Sec. 12, NW¼.

The area described contains 409.34 acres, more or less, in Lander County.

The sale is in conformance with the 1986 BLM Shoshone-Eureka Resource Management Plan (RMP), approved on February 26, 1986.

The use of the modified competitive sale method is consistent with 43 CFR 2711.3-2(a)(1)(ii). Public lands may be offered for sale by modified competitive bidding procedures when the authorized officer determines it is necessary in order to assure equitable distribution of land among purchasers or to recognize equitable considerations or public policies. Modified competitive bidding includes, but is not limited to, a limitation of persons permitted to bid on a specific parcel of land offered for sale. Factors to be considered in determining when modified competitive bidding procedures shall be used include, but are not limited to, the needs of State and/or local government, adjoining landowners, historical users, and other needs for the parcel.

Lander County supports a request by Nevada Hay Company, which is owned by Dennis Johnson, for a modified competitive sale. Mr. Johnson owns the abutting properties on the east and west boundaries of the parcel. The north and south boundaries are public land. Ellison Ranching Company is the historical user of the land with a grazing permit authorized by the BLM. The sale parcel lacks official public access. In consideration of the adjoining landowner and historical uses of the parcel, the authorized officer has determined Mr. Johnson and Ellison Ranching Company as the bidders for this parcel.

Bidding Procedures: Sealed bids must be accompanied by not less than 20 percent of the bid amount in the form of a certified check, postal money order, bank draft, or cashier's check made payable to the Bureau of Land Management. Personal checks will not be accepted. If the bidders submit a bid of the same amount, the determination of which is to be considered the highest bid shall be by supplemental bidding. Sealed bid envelopes must be clearly marked on the front lower left corner with “SEALED BID BLM LAND SALE, [DATE]”, and the identification number of the parcel “BLM SERIAL NUMBER N-79242”. The bid envelope must also contain the completed BLM form, Certificate of Eligibility, stating the name, mailing address, and phone number of the entity/person making the bid.

Sealed bids will be opened and recorded to determine the high bidder on September 30, 2009 at 3 p.m. Pacific Time at the BLM Battle Mountain District Office. The highest qualifying bidder among the qualified bids received for the sale will be declared.

The bidders or their authorized representative must be present at the bid opening. Should the bidders appoint a representative for this sale, they must submit in writing a notarized document identifying the level of capacity given to their designated representative. This document must be signed by both parties. Acceptance or rejection of any offer to purchase will be in accordance with the procedures set forth in 43 CFR 2711.3-1(f) and (g) of this subpart.

All funds submitted with sealed bids will be returned to the unsuccessful bidder on presentation of photo identification at the designated area.

The successful bidder will be allowed 180 days from the date of the sale to submit the remainder of the full bid price declared in the form of a certified check, postal money order, bank draft, or cashier's check made payable to the Bureau of Land Management. Personal checks will not be accepted. Arrangements for electronic fund transfer to BLM for the payment balance due shall be made a minimum of 2 weeks prior to the payment date. Failure to submit the full bid price prior to the expiration of the 180th day following the sale date will result in the forfeiture of the 20 percent bid deposit to the BLM in accordance with 43 CFR 2711.3-1(d). No exceptions will be made.

Terms and Conditions: No minerals will be reserved to the United States in accordance with BLM approved Mineral Potential Report, dated October 15, 2007. Information pertaining to the reservation of minerals specific to the parcel is located in the case files. Acceptance of the offer to purchase this parcel will constitute an application for conveyance of unreserved mineral interests. These unreserved mineral interests have been determined to have no known mineral value pursuant to 43 CFR 2720.0-6 and 2720.2(a). In conjunction with the final payment, the applicant for these “no known value” mineral interests will be required to pay a $50 non-refundable filing fee for processing the conveyance of these mineral interests which will be sold simultaneously with the surface interests.

The conveyances issued would contain the following numbered reservations, covenants, terms, and conditions:

1. A right-of-way is reserved for ditches and canals constructed by authority of the United States under the Act of August 30, 1890 (43 U.S.C. 945);

2. A right-of-way for a power line granted to Nevada Energy, its successors and assigns, by right-of-way No. N-12841, pursuant to the Act of October 21, 1976 (43 U.S.C. 1761);

3. The parcel is subject to valid existing rights;

4. By accepting this patent, the patentee agrees to indemnify, defend and hold the United States harmless from any costs, damages, claims, causes of action, penalties, fines, liabilities, and judgments of any kind or nature arising from the past, present, and future acts or omissions of the patentees, its employees, agents, contractors, or lessees, or any third-party, arising out of, or in connection with, the patentees use, occupancy, or operations on the patented real property. This indemnification and hold harmless agreement includes, but is not limited to, acts and omissions of the patentees, its employees, agents, contractors, or lessees, or third party arising out of or in connection with the use and/or occupancy of the patented real property resulting in: (1) Violations of Federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or state environmental laws; (5) Other activities by which solid or hazardous substances or wastes, as defined by Federal and State environmental laws were generated, released, stored, used or otherwise disposed of on the patented real property, and any cleanup response, remedial action, or other actions related in any manner to said solid or hazardous substances or wastes; (6) Or natural resource damages as defined by Federal and State law. This covenant shall be construed as running with the patented real property, and may be enforced by the United States in a court of competent jurisdiction; and

5. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

The parcel is subject to reservations for roads, public utilities and flood control purposes in accordance with the local governing entities' transportation plans.

No warranty of any kind, express or implied, is given by the United States as to title, whether or to what extent the land may be developed, its physical condition, future uses, or any other circumstance or condition. The conveyance of this parcel will not be on a contingency basis.

The parcel may be subject to land use applications received prior to publication of this notice if processing the application would have no adverse effect on the marketability of title, or the FMV of the parcel. Encumbrances of record, appearing in the case file for the parcel offered for sale, are available for review during business hours, 7:30 a.m. to 4:30 p.m. Pacific Time, Monday through Friday, at the BLM Battle Mountain District Office, except during federally recognized holidays.

Upon publication of this notice and until completion of the sale, the BLM is no longer accepting land use applications affecting the identified land, except applications for the amendment of previously filed right-of-way applications or existing authorizations to increase the term of the grant in accordance with 43 CFR 2807.15 and 2886.15. Land use applications may be considered after completion of the sale for this parcel if the parcel is not sold.

BLM will notify valid existing rights-of-way holders of their ability to convert their compliant rights-of-way to perpetual rights-of-way or easements. Each valid holder will be notified in writing of their rights and then must apply for the conversion of their current authorization.

Federal law requires that bidders must be: (a) A citizen of the United States 18 years of age or over; (b) a corporation subject to the laws of any State or of the United States; (c) a State, State instrumentality or political subdivision authorized to hold real property; or (d) an entity legally capable of conveying and holding lands or interests therein, under the laws of the State within with the lands to be conveyed are located. Where applicable, the entity shall also meet the requirements of paragraphs (a) and (b) of this section. U.S. citizenship is evidenced by presenting a birth certificate, passport, or naturalization papers. Failure to submit the above requested documents concurrently with the bid shall result in the ineligibility of the bidder.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the BLM Battle Mountain District Office prior to 30 days before the bidder's scheduled closing date. There are no exceptions.

Within 30 days of the sale, BLM will in writing, either accept or reject all bids received. Pursuant to 43 CFR 2711.3-1, a bid is the bidder's offer to BLM to purchase the parcel. No contractual or other rights against the United States may accrue until BLM officially accepts the offer to purchase, and the full bid price is submitted by the 180th day following the sale. All name changes and supporting documentation must be received at the BLM Battle Mountain District Office concurrently with the bid. To change the name on the bidder statement, high bidders must notify the BLM Battle Mountain District Office in writing, and submit a new bidder statement, which is available at the BLM Battle Mountain District Office or in the sale brochure, and is to be completed by the intended patentee.

BLM will not sign any documents related to 1031 Exchange transactions. The timing for completion of the exchange is the bidder's responsibility in accordance with Internal Revenue Services regulations. BLM is not a party to any 1031 Exchange.

In order to determine the FMV, certain assumptions may have been made of the attributes and limitations of the land and potential effects of local regulations and policies on potential future land uses. Through publication of this notice the BLM advises that these assumptions may not be endorsed or approved by units of local government. It is the buyer's responsibility to be aware of all applicable Federal, State, and local government laws, regulations and policies that may affect the subject lands, including any required dedication of lands for public uses. It is the buyer's responsibility to be aware of existing or projected use of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or State law or regulation that may impact the future use of the property. Any land lacking access from a public road or highway will be conveyed as such, and future access acquisition will be the responsibility of the buyer.

Information concerning the sale, appraisals, reservations, sale procedures and conditions, CERCLA, maps delineating the sale parcel, the FMV of the parcel, mineral potential report, Environmental Assessment, and other environmental documents will be available for review at the BLM Battle Mountain District Office.

Public Comments: Only written comments submitted by postal service or overnight mail will be considered as properly filed. Electronic mail, facsimile or telephone comments will not be considered as properly filed. Before including your address, phone number, e-mail address, or other personal identifying information in your comment, you should be aware that your entire comment—including your personal identifying information—may be made publicly available at any time. While you may ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

(Authority: 43 CFR 2711)

Douglas W. Furtado,
Field Manager, Mount Lewis Field Office.

[FR Doc. E9-17786 Filed 7-24-09; 8:45 am]

BILLING CODE 4310-HC-P